NATIONAL SCIENCE FOUNDATION

Advisory Committee for Engineering; Notice of Meeting

In accordance with Federal Advisory Committee Act (Pub. L. 92-463, as amended), the National Science Foundation announces the following meeting:

Name: Engineering Advisory Committee Meeting, #1170.

Date/Time: October 21, 2009: 12:00 p.m. to 6:15 p.m. October 22, 2009: 8:15 a.m. to 12:15 p.m.

Place: National Science Foundation, 4201 Wilson Boulevard, Suite 1235, Arlington, Virginia 22230.

Type of Meeting: Open.

Contact Person: Deborah Young, National Science Foundation, 4201 Wilson Boulevard, Suite 505, Arlington, Virginia 22230.

Purpose of Meeting: To provide advice, recommendations and counsel on major goals and policies pertaining to engineering programs and activities.

Agenda: The principal focus of the meeting on both days will be to discuss emerging issues and opportunities for the Directorate for Engineering and its divisions and review Committee of Visitors Reports.

Dated: September 25, 2009.
Susanne Bolton,
Committee Management Officer.

[FR Doc. E9-23544 Filed 9-29-09; 8:45 am]

BILLING CODE 7555-01-P